DEPARTMENT OF HEALTH AND HUMAN SERVICES

The National Institutes of Health

Submission for OMB Review; Comment Request; Child/Parent Evaluation and Satisfaction Surveys; Brain Train4Kids: New Delivery of the Brain Power! Program

Summary: In compliance with the requirement of Section 3506(c)(2)(A) of the Paperwork Reduction Act of 1995, for opportunity for public comment on proposed data collection projects, the National Institute on Drug Abuse (NIDA), the National Institutes of Health (NIH) will publish periodic summaries of proposed projects to be submitted to the Office of Management and Budget (OMB) for review and approval. The proposed information collection was previously published in the Federal Register on December 8, 2004, page 71060 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: BrainTrain4Kids: New Delivery of the Brain Power Program. Type of information Collection Request: NEW. Need and Use of Information Collection: This research will evaluate the effects of BrainTrain4Kids.com, an online program for students (Grades 2 and 3), on: (1) Students' knowledge of scientific inquiry, the human nervous system, the effects of alcohol and tobacco on the brain, and the differences between helpful and harmful drugs; (2) students' attitudes toward science in general; and (3) students' attitudes toward substance abuse. The secondary goals of the summative evaluation are to determine if changes in knowledge and attitudes are retained over follow-up period as well as to determine if parents and second- and third-grade students will report a high degree of satisfaction with the online program. The online program is a new delivery of a National Institute on Drug Abuse science education curriculum for second- and third-grade teachers (Brain Power! The NIDA Junior Scientist Club) adapted for the Internet and for use by children at home under the guidance of their parents. If the new program is successful, the public will have access to an evidence-based program via the Internet that contributes to scientific literacy and provides a basis of knowledge upon which to build future substance abuse prevention. In order to evaluate the effectiveness of the program, information will be collected from students before (pretest) and after (post-test) exposure to the Web site and again 6 weeks after the program has been completed (follow-up). Parents will be asked to complete usage logs at six points during their use of the BrainTrain4Kids Web site with their children. Prior to the evaluation study, the knowledge and attitude assessment instruments will be pilot-tested with a small sample of students to determine validity and reliability. All data collection will occur online. Frequency of Response: On occasion. Affected Public: Second- and third-grade children and their parents. Type of Respondents: Second- and third-grade children and their parents. The reporting burden is as follows: Estimated Number of Respondents: 308; Estimated Number of Responses per Respondents: One for two key cohorts, three for one key cohort, and seven for one key cohort; Average Burden Hours per Response: 0.378; and Estimated Total Annual Burden Hours Requested: 479.50. There are no Capital Costs to report. There are no Operating or Maintenance Costs to report. The estimated annualized burden is summarized below.

Type of respondents | Number of respondents | Frequency of responses | Average time per response | Annual hour burden
Children (Assessment Instrument Pilot Test) | 34 | 1 | 0.75 | 25.5
Parents (Assessment Instrument Pilot Test) | 34 | 1 | 1 | 34.0
Children (Evaluation) | 120 | 3 | 0.5 | 180.0
Parents (Evaluation: 1 Satisfaction Scale/6 Usage Logs) | 120 | 1 | 0.5 | 240.0
|  | 6 | 0.25 |
Total | 308 |  |  | 479.50

Request for Comments

Written comments and/or suggestions from the public and affected agencies are invited on one or more of the following points: (1) Whether the proposed collection of information is necessary for the proper performance of the function of the agency, including whether the information will have practical utility; (2) the accuracy of the agency's estimate of the burden of the proposed collection of information, including the validity of the methodology and the assumptions used; (3) ways to enhance the quality, utility, and clarity of the information to be collected; and (4) ways to minimize the burden of the collection of information on those who are to respond, including the use of appropriate automated, electronic, mechanical, or other technological collection techniques or other forms of information technology.

Direct Comments to OMB

Written comments and/or suggestions regarding the item(s) contained in this notice, especially regarding the estimated public burden and associated response time, should be directed to the: Office of Management and Budget, Office of Regulatory Affairs, New Executive Office Building, room 1-235, Washington, DC 20503, Attention: Desk Officer for NIH. To request more information on the proposed project or to obtain a copy of the data collection plans and instruments, contact Dr. Cathrine Sasek, Coordinator, Science Education Program. Office of Science Policy and Communications, National Institute on Drug Abuse, 6001 Executive Blvd, Room 5237, Bethesda, MD 20892, or call non-toll-free number (301) 443-6071; fax (301) 443-6277; or by e-mail to csasek@nida.nih.gov.

Comments Due Date

Comments regarding this information are best assured of having their full effect if received within 30 days of the date of this publication.

Dated: April 10, 2006.
Laura Rosenthal,
Executive Officer, National Institute on Drug Abuse.

[FR Doc. 06-3596 Filed 4-13-06; 8:45 am]

BILLING CODE 4140-01-P